DEPARTMENT OF COMMERCE

Submission for OMB Review; Comment Request

The Department of Commerce (DOC) will submit to the Office of Management and Budget (OMB) for clearance the following proposal for collection of information under provisions of the Paperwork Reduction Act (44 U.S.C. Chapter 35).

Agency: Bureau of Industry and Security (BIS).

Title: Application for NATO International Competitive Bidding.

Agency Form Number: BIS-4023P.

OMB Approval Number: 0694-0128.

Type of Request: Regular submission.

Burden: 40 hours.

Average Time Per Response: 1 hour.

Number of Respondents: 40.

Needs and Uses: All U.S. firms desiring to participate in the NATO International Competitive Bidding (ICB) process under the NATO Security Investment Program (NSIP) must be certified as technically, financially and professionally competent. The U.S. Department of Commerce is the agency that provides the Statement of Eligibility that certifies these firms. Any such firm seeking certification is required to submit a completed Form BIS-4023P along with a current annual financial report and a résumé of past projects in order to become certified and placed on the Consolidated List of Eligible Bidders. The information provided on the form is used to certify the U.S. firm for placement on the bidders' list database.

Affected Public: Individuals or households, business or other for-profit organizations.

Respondent's Obligation: Required to retain or obtain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or Fax number, (202) 395-7285.

Dated: April 19, 2007.
Gwellnar Banks,
Management Analyst, Office of the Chief Information Officer.

[FR Doc. E7-7828 Filed 4-24-07; 8:45 am]

BILLING CODE 3510-22-P